DEPARTMENT OF HEALTH AND HUMAN SERVICES

National Institutes of Health

Center for Scientific Review; Amended Notice of Meeting

Notice is hereby given of a change in the meeting of the Center for Scientific Review Special Emphasis Panel Member Conflict: Immunology of Hypersensitivity and Host Defense, January 28, 2026, 10:00 a.m. to 05:00 p.m., National Institutes of Health, Rockledge II, 6701 Rockledge Drive, Bethesda, MD 20892 which was published in the Federal Register on October 01, 2025, 90 FR 47314, Doc No. 2025-19109.

This meeting is being amended to change the meeting date from January 20, 2025, to January 28, 2026. The meeting is closed to the public.

Dated: December 24, 2025.
Rosalind M. Niamke,
Program Analyst, Office of Federal Advisory Committee Policy.

[FR Doc. 2025-24110 Filed 12-30-25; 8:45 am]

BILLING CODE 4140-01-P